FEDERAL COMMUNICATIONS COMMISSION

47 CFR Part 95

[ET Docket No. 99-255 and PR Docket 92-235, FCC 00-211]

Wireless Medical Telemetry Service; Correction

AGENCY: Federal Communications Commission.

ACTION: Final rule; correction.

SUMMARY: On July 17, 2000 (65 FR 43995), the Commission published final rules in the Report and Order, which revised the rules governing the Wireless Medical Telemetry Service. This document contains correction to that rules.

DATES: Effective October 16, 2000.

FOR FURTHER INFORMATION CONTACT: Hugh Van Tuyl, Office of Engineering and Technology, (202) 418-7506.

SUPPLEMENTARY INFORMATION: The Federal Communications Commission published a document amending part 95 in the Federal Register of July 17, 2000 (65 FR 43995). This document corrects the Federal Register as it appeared. In rule FR Doc. 00-17970 published on July 17, 2000 (65 FR 43395), the Commission is correcting §§ 95.401(d), 95.631(h) and 95.639(f) of the Commission's rules to reflect the correct CFR designations §§ 95.401(e), 95.631(i) and 95.639(g).

In rule FR Doc. 00-17970 published on July 17, 2000, (65 FR 43995) make the following corrections:

PART 95—[CORRECTED]

§ 95.401 [Corrected]

1. On page 44008, in the first column, in amendatory instruction 11, in the second line, correct “(d)” to read “(e)”.

2. On page 44008, in the first column, in § 95.401, correct paragraph designation “(d)” to read “(e)”.

§ 95.631 [Corrected]

3. On page 44008, in the second column, in amendatory instruction 14, in the second line, correct “(h)” to read “(i)”.

4. On page 44008, in the second column, in § 95.631, correct paragraph designation “(h)” to read “(i)”.

§ 95.639 [Corrected]

5. On page 44008, in the second column, in amendatory instruction 15, in the second line, correct “(f)” to read “(g)”.

6. On page 44008, in the second column, in § 95.639, correct paragraph designation “(f)” to read “(g)”.

Federal Communications Commission.
William F. Caton,
Deputy Secretary.

[FR Doc. 00-22239 Filed 8-31-00; 8:45 am]

BILLING CODE 6712-01-P